NUCLEAR REGULATORY COMMISSION

[Docket No. 50-440; NRC-2010-0124]

FirstEnergy Nuclear Operating Company; Environmental Assessment and Finding of No Significant Impact

AGENCY: Nuclear Regulatory Commission.

ACTION: Environmental Assessment and Finding of No Significant Impact; Correction.

SUMMARY: This document corrects a notice appearing in the Federal Register on March 26, 2010 (75 FR 14638), which incorrectly stated a wrong county for Perry Nuclear Plant. This action is necessary to correct the county for Perry.

FOR FURTHER INFORMATION CONTACT: Michael Mahoney, Office of Nuclear Reactor Regulation, U.S. Nuclear Regulatory Commission, Washington, DC 20555-0001; telephone (301) 415-3867, e-mail michael.mahoney@nrc.gov.

SUPPLEMENTARY INFORMATION: On page 14638, in the 1st column under Nuclear Regulatory Commission, 20th line, it is corrected to read from “Ottawa County, Ohio” to “Lake County, Ohio.”

Dated in Rockville, Maryland, this 26th day of March 2010.
For the Nuclear Regulatory Commission.
Michael Mahoney,
Project Manager, Plant Licensing Branch III-2, Division of Operating Reactor Licensing, Office of Nuclear Reactor Regulation.

[FR Doc. 2010-7331 Filed 3-31-10; 8:45 am]

BILLING CODE 7590-01-P